FEDERAL COMMUNICATIONS COMMISSION

47 CFR Part 73

[DA 00-2226; MM Docket No. 96-66, RM-8729, RM-8821]

Radio Broadcasting Services; Sibley, IA, and Brandon, SD

AGENCY: Federal Communications Commission.

ACTION: Final rule.

SUMMARY: This document denies a Petition for Reconsideration filed by 21st Century Radio Ventures, Inc. directed to the Report and Order in this proceeding which allotted Channel 261A to Brandon, South Dakota. See 63 FR 64876, November 24, 1998. With this action, the proceeding is terminated.

FOR FURTHER INFORMATION CONTACT: Robert Hayne, Mass Media Bureau, (202) 418-2177.

SUPPLEMENTARY INFORMATION: This is a synopsis of the Commission's Memorandum Opinion and Order adopted September 27, 2000, and released September 29, 2000. The full text of this decision is available for inspection and copying during normal business hours in the FCC Reference Information Center at Portals ll, CY-A257, 445 12th Street, SW, Washington, DC. The complete text of this decision may also be purchased from the Commission's copy contractor, International Transcription Service, Inc., (202) 857-3805, 1231 M Street, NW, Washington, DC 20036.

Federal Communications Commission.
John A. Karousos,
Chief, Allocations Branch, Policy and Rules Division, Mass Media Bureau.

[FR Doc. 00-26192 Filed 10-11-00; 8:45 am]

BILLING CODE 6712-01-P